DEPARTMENT OF HEALTH AND HUMAN SERVICES

National Institutes of Health

Center for Scientific Review; Amended Notice of Meeting

Notice is hereby given of a change in the meeting of the Metallobiochemistry Study Section, June 14, 2001, 8:30 a.m. to June 15, 2001, 6:30 p.m., Georgetown Suites, 1000 29th St., NW., Washington, DC, 20007 which was published in the Federal Register on May 29, 2001, 66 FR 29160-29163.

The meeting will be one day only June 14, 2001. The time and location remain the same. The meeting is closed to the public.

Dated: June 5, 2001.
LaVerne Y. Stringfield,
Director, Office of Federal Advisory Committee Policy.

[FR Doc. 01-14776 Filed 6-11-01; 8:45 am]

BILLING CODE 4140-01-M